DEPARTMENT OF DEFENSE

Department of the Army

Availability for Non-Exclusive, Exclusive, or Partially Exclusive Licensing of U.S. Patent Concerning Monoclonal Antibody Against Ricin A Chain

Correction

In notice document 03-9470 beginning on page 18972 in the issue of Thursday, April 17, 2003, make the following corrections:

1. On page 18972, in the third column, in the second line from the bottom, “100 μg/mL”, should read “100 ηg/mL”.

2. On page 18973, in the first column, in the second line, “1000 μg/mL”, should read “1000 ηg/mL”.

[FR Doc. C3-9470 Filed 4-23-03; 8:45 am]

BILLING CODE 1505-01-D

FEDERAL COMMUNICATIONS COMMISSION

47 CFR Part 74

[IB Docket No. 98-172, FCC 02-317]

Redesignation of the 17.7-19.7 GHz Frequency Band, Blanket Licensing of Satellite Earth Stations in the 17.7-20.2 GHz and 27.5-30.0 GHz Frequency Bands, and the Allocation of Additional Spectrum in the 17.3-17.8 GHz and 24.75-25.25 GHz Frequency Bands for Broadcast Satellite-Service Use

Correction

In rule document 03-7322 beginning on page 16962 in the issue of Tuesday, April 8, 2003, make the following corrections:

§ 74.551 [Corrected]

1. On page 16967, in the first column, in § 74.551, in amendatory instruction 13, in the second line, “(d)” should read “(b)”.

2. On the same page, in the second column, also in §74.551, paragraph heading “(d)” should read “(b)”.

[FR Doc. C3-7322 Filed 4-23-03; 8:45 am]

BILLING CODE 1505-01-D

DEPARTMENT OF HOMELAND SECURITY

Bureau of Customs and Border Protection

Paperless Drawback Prototype: Delay of Commencement of Test and Reopening of Application Period

Correction

In notice document 03-9405 beginning on page 18994 in the issue of Thursday, April 17, 2003, make the following correction:

On page 18995, in the first column, under the heading DATES, in the sixth line, “May 19, 2003” should read, “June 18, 2003”.

[FR Doc. C3-9405 Filed 4-23-03; 8:45 am]

BILLING CODE 1505-01-D

DEPARTMENT OF JUSTICE

28 CFR Part 16

[AAG/A Order No. 012-2003]

Privacy Act of 1974; Implementation

Correction

In rule document 03-9324 beginning on page 19148 in the issue of April 18, 2003, make the following correction:

On page 19149, in the second column, under List of Subjects in 28 CFR Part 16, in the second paragraph, in the fourth line “3003” should read “2003”.

[FR Doc. C3-9324 Filed 4-23-03; 8:45 am]

BILLING CODE 1505-01-D

DEPARTMENT OF TRANSPORTATION

National Highway Traffic Safety Administration

49 CFR Part 579

[Docket No. NHTSA 2001-8677; Notice 4]

RIN 2127-AI92

Reporting of Information and Documents About Potential Defects; Defect and Noncompliance Reports

Correction

In rule document 03-9199 beginning on page 18136 in the issue of Tuesday, April 15, 2003, make the following correction:

§ 579.28 [Corrected]

On page 18143, in the second column, in §579.28, in paragraph (c), in the second line, “No” should read “(1) No”.

[FR Doc. C3-9199 Filed 4-23-03; 8:45 am]

BILLING CODE 1505-01-D